DEPARTMENT OF JUSTICE

Antitrust Division

Notice Pursuant to the National Cooperative Research and Production Act of 1993—Sensory System for Critical Infrastructure Defect Recognition, Visualization and Failure Prediction

Notice is hereby given that, on April 14, 2009, pursuant to Section 6(a) of the National Cooperative Research and Production Act of 1993, 15 U.S.C. 4301 et seq. (“the Act”), Sensory System for Critical Infrastructure Defect Recognition, Visualization and Failure Prediction (“Sensory System”) has filed written notifications simultaneously with the Attorney General and the Federal Trade Commission disclosing (1) the identities of the parties and (2) the nature and objectives of the venture. The notifications were filed for the purpose of invoking the Act's provisions limiting the recovery of antitrust plaintiffs to actual damages under specified circumstances.

Pursuant to Section 6(b) of the Act, the identities of the parties to the venture are: ELXSI, Orlando, FL; Louisiana Tech University, Ruston, LA; and Beyond Vision, LLC, Ruston, LA. The general area of Sensory System's planned activity is to develop a novel, deep-penetrating scanning system based on ultrawideband radar for inspecting buried infrastructure such as pipelines, tunnels, and culverts that can detect fractures, quantify corrosion and determine the presence of voids in the surrounding soil to “see” beyond the structure to prevent accidents. The technology provides analysis which cannot be detected by current pipe inspection. The sensory system would be used by dull engineers to rehabilitate and replace critical non-conductive infrastructure such as concrete bridges, concrete dams, sea walls, highways, runways and non-ferrous pipelines. The activities of this joint venture project will be partially funded by award #7ONANB9H9009 from the Technology Innovation Program, National Institute of Standards and Technology, U.S. Department of Commerce.

Patricia A. Brink,
Deputy Director of Operations, Antitrust Division.

[FR Doc. E9-13928 Filed 6-12-09; 8:45 am]

BILLING CODE 4410-11-M